DEPARTMENT OF TRANSPORTATION

Federal Aviation Administration

14 CFR Part 71

[Docket No. FAA-2022-0858; Airspace Docket No. 22-AEA-5]

RIN 2120-AA66

Proposed Establishment and Amendment of Area Navigation (RNAV) Routes; Eastern United States

AGENCY: Federal Aviation Administration (FAA), DOT.

ACTION: Notice of proposed rulemaking.

SUMMARY: This action proposes to establish Area Navigation (RNAV) route Q-141 and amend RNAV route Q-437 in support of the Northeast Corridor Atlantic Coast Route Project.

DATES: Comments must be received on or before September 12, 2022.

ADDRESSES: Send comments on this proposal to the U.S. Department of Transportation, Docket Operations, 1200 New Jersey Avenue SE, West Building Ground Floor, Room W12-140, Washington, DC 20590; telephone: (800) 647-5527 or (202) 366-9826. You must identify FAA Docket No. FAA-2022-0858; Airspace Docket No. 22-AEA-5 at the beginning of your comments. You may also submit comments through the internet at www.regulations.gov.

FAA Order JO 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

Authority for This Rulemaking

SUPPLEMENTARY INFORMATION: The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it expands the availability of RNAV routes in the National Airspace System, increases airspace capacity, and reduces complexity in high air traffic volume areas.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0858; Airspace Docket No. 22-AEA-5) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-0858; Airspace Docket No. 22-AEA-5.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order JO 7400.11F, Airspace Designations and Reporting Points, issued August 10. 2021, and effective September 15, 2021. FAA Order JO 7400.11F is publicly available as listed in the ADDRESSES section of this proposed rule. FAA Order JO 7400.11F lists Class A, B, C, D, and E airspace areas, air traffic service routes, and reporting points.

The Proposal

The FAA is proposing an amendment to 14 CFR part 71 to establish RNAV route Q-141, and amend RNAV route Q-437 in the eastern United States in support of the Northeast Corridor Atlantic Coast Route project.

Q-141: Q-141 is a proposed new route that would extend from the HOUKY, VA waypoint (WP) (located in the vicinity of the Hopewell, VA (HPW), VOR and Tactical Air Navigational System (VORTAC)) to the NALES, DE, WP. Q-141 would expand the availability of RNAV routing in the area.

Q-437: Q-437 extends from the VILLS, NJ, Fix, (located northwest of the Sea Isle, NJ (SIE), VORTAC to the SLANG, VT, WP (located northeast of the Cambridge, NY (CAM), VHF Omnidirectional Range/Distance Measuring Equipment (VOR/DME)). The FAA proposes to terminate the route at the LLUND, NY, Fix (located north of the Kennedy, NY (JFK), VOR/DME). All points north of the LLUND Fix (i.e., BINGS, WARUV, and SLANG) would be removed from the route. This is based on low demand for those segments and would better fit traffic flows in the area. Additionally, the LUIGI, NJ, Fix would be removed from the route description because it does not mark a turn point.

The proposed full route descriptions of Q-141 and Q-437 are listed in the amendments to part 71 set forth below.

United States Area Navigation Routes are published in paragraph 2006 of FAA Order JO 7400.11F, dated August 10, 2021, and effective September 15, 2021, which is incorporated by reference in 14 CFR 71.1. The routes listed in this document would be subsequently published in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR part 71 of FAA Order JO 7400.11F, Airspace Designations and Reporting Points, dated August 10, 2021 and effective September 15, 2021, is amended as follows:

Paragraph 2006 United States Area Navigation Routes.

* * * * *

Q-141 HOUKY, VA to NALES, DE [New]
HOUKY, VA | WP | (Lat. 37°19′55.98″ N, long. 077°07′57.63″ W)
TAPPA, VA | FIX | (Lat. 37°58′12.66″ N, long. 076°50′40.62″ W)
HYTRA, MD | WP | (Lat. 38°17′31.91″ N, long. 076°24′49.80″ W)
BLNTN, MD | WP | (Lat. 38°44′10.33″ N, long. 075°59′02.69″ W)
NALES, DE | FIX | (Lat. 38°53′35.20″ N, long. 075°38′11.13″ W)
* * * * *
Q-437 VILLS, NJ to LLUND, NY [Amended]
VILLS, NJ | FIX | (Lat. 39°18′03.87″ N, long. 075°06′37.90″ W)
DITCH, NJ | FIX | (Lat. 39°47′37.86″ N, long. 074°42′59.88″ W)
HNNAH, NJ | WP | (Lat. 40°28′12.73″ N, long. 074°02′36.62″ W)
LLUND, NY | FIX | (Lat. 40°51′45.04″ N, long. 073°46′57.30″ W)

* * * * *

Issued in Washington, DC, on July 22, 2022.
Scott M. Rosenbloom,
Manager, Airspace Rules and Regulations.

[FR Doc. 2022-16236 Filed 7-28-22; 8:45 am]

BILLING CODE 4910-13-P